DEPARTMENT OF DEFENSE

Department of the Navy

[Docket ID USN-2013-0003]

Privacy Act of 1974; System of Records

AGENCY: Department of the Navy, DoD.

ACTION: Notice to alter a System of Records.

SUMMARY: The Department of the Navy proposes to alter a system of records in its inventory of record systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, HEAD, FOIA/Privacy Act Policy Branch, Department of the Navy, 2000 Navy Pentagon, Washington, DC 20350-2000, or by phone at (202) 685-6546.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on February 7, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 28, 2013.
Aaron Siegel,
Alternate OSD Federal Register Liaison Officer, Department of Defense.

N05861-1

System name:

Private Relief Legislation (April 1, 2008, 73 FR 17331).

Changes:

* * * * *

System location:

Delete entry and replace with “Office of Legislative Affairs, Department of the Navy, 1300 Navy Pentagon, Washington, DC 20350-2000.”

* * * * *

Categories of records in the system:

Delete entry and replace with “Letters to Congressional Committees, expressing the views of the department concerning the legislation and records necessary to prepare the letters. Collected information may include name, address, phone number, birth date, and Social Security Number (SSN).”

Authority for maintenance of the system:

Delete entry and replace with “10 U.S.C. 5013, Secretary of the Navy, and E.O. 9397 (SSN), as amended.”

* * * * *

Storage:

Delete entry and replace with “Paper records and electronic storage media.”

* * * * *

System manager(s) and address:

Delete entry and replace with “Chief of Legislative Affairs, Department of the Navy, 1300 Navy Pentagon, Washington, DC 20350-2000.”

Notification procedure:

Delete entry and replace with “Individuals seeking to determine whether information about themselves is contained in this system should address written inquiries to the Chief of Legislative Affairs, Department of the Navy, 1300 Navy Pentagon, Washington, DC 20350-2000.

Individual should provide a signed request with their full name, the term and session of Congress when the bill was introduced, the bill number, the sponsor of the bill (if available), and a copy of their driver's license or similar substitute for identification purposes.

The system manager may require an original signature or a notarized signature as a means of proving the identity of the individual requesting access to the records.”

Record access procedures:

Delete entry and replace with “Individuals seeking access to information about themselves contained in this system should address written inquiries to the Chief of Legislative Affairs, Department of the Navy, 1300 Navy Pentagon, Washington, DC 20350-2000.

Individual should provide a signed request with their full name, the term and session of Congress when the bill was introduced, the bill number, the sponsor of the bill (if available), and a copy of their driver's license or similar substitute for identification purposes.

The system manager may require an original signature or a notarized signature as a means of proving the identity of the individual requesting access to the records.”

* * * * *

[FR Doc. 2013-05059 Filed 3-4-13; 8:45 am]

BILLING CODE 5001-06-P